SMALL BUSINESS ADMINISTRATION

[Declaration of Disaster #3450]

State of Georgia

Fulton County and the contiguous counties of Carroll, Cherokee, Clayton, Cobb, Coweta, DeKalb, Douglas, Fayette, Forsyth and Gwinnett in the State of Georgia constitute a disaster area due to damages caused by heavy rains and localized flooding that occurred on September 21 and 22, 2002. Applications for loans for physical damage as a result of this disaster may be filed until the close of business on December 2, 2002, and for economic injury until the close of business on July 3, 2003, at the address listed below or other locally announced locations:

U.S. Small Business Administration, Disaster Area 2 Office, One Baltimore Place, Suite 300, Atlanta, GA 30308.

The interest rates are:

| Percent
For Physical Damage:
Homeowners With Credit Available Elsewhere | 6.625
Homeowners Without Credit Available Elsewhere | 3.312
Businesses With Credit Available Elsewhere | 7.000
Businesses and Non-Profit Organizations Without Credit Available Elsewhere | 3.500
Others (Including Non-Profit Organizations) With Credit Available Elsewhere | 6.375
For Economic Injury: Businesses and Small Agricultural Cooperatives Without Credit Available Elsewhere | 3.500

The number assigned to this disaster for physical damage is 345006 for Georgia and for economic injury is 9R8700.

Dated: October 3, 2002.
(Catalog of Federal Domestic Assistance Program Nos. 59002 and 59008)
Hector V. Barreto,
Administrator.

[FR Doc. 02-25687 Filed 10-8-02; 8:45 am]

BILLING CODE 8025-01-P